DEPARTMENT OF ENERGY

Federal Energy Regulatory Commission

[Docket No. IC24-13-000]

Commission Information Collection Activities (FERC-716) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-716, Good Faith Requests for Transmission Services under Section 213(a) of the Federal Power Act (FPA) and Applications for Interconnection or Transmission Orders under Sections 211(a) and 212 of the FPA (OMB Control Number 1902-0170). The information collection will be submitted to the Office of Management and Budget (OMB) for review.

DATES: Comments on the collection of information are due July 12, 2024.

ADDRESSES: Send written comments on FERC-716 to OMB through www.reginfo.gov/public/do/PRAMain. Attention: Federal Energy Regulatory Commission Desk Officer. Please identify the OMB Control Number (1902-0170) in the subject line of your comments. Comments should be sent within 30 days of publication of this notice to www.reginfo.gov/public/do/PRAMain.

Please submit copies of your comments to the Commission. You may submit copies of your comments (identified by Docket No. IC24-13-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-716, Good Faith Requests for Transmission Services under Section 213(a) of the Federal Power Act (FPA) and Applications for Interconnection or Transmission Orders under Sections 211(a) and 212 of the FPA.

OMB Control No.: 1902-0170.

Type of Request: Three-year extension of the FERC-716 information collection requirements with revisions.

Abstract: FERC-716 pertains to transmission of electricity generated and sold at the wholesale level, i.e., sold to a utility or other entity reselling that energy to residential, business, or industrial customers. The term of art for such a transaction is “sale for resale.” The FPA and the relevant Commission regulations provide for two procedures that a generator of electricity may use to seek transmission services from an entity that does not own or directly use the power it is transmitting. One procedure involves the exchange of information between generators and transmitting utilities, and does not require submission of information to the Commission. The other procedure, which is applicable only if the exchange of information is unsuccessful, involves an application for a Commission interconnection or transmission order.

Section 213(a) of the FPA (16 U.S.C. 16 U.S.C. 824l) provides that whenever a person generating wholesale electric energy makes a good faith request to a transmitting utility to provide wholesale transmission services, and includes in that request specific rates and charges and other terms and conditions, the transmitting utility must either:

• Agree to provide such services at rates, charges, terms and conditions acceptable to the generator-requester; or

• Within 60 days or other mutually agreed upon period, provide the generator-requester with a detailed written explanation, with specific reference to the facts and circumstances of the request, stating (1) the transmitting utility's basis for the proposed rates, charges, terms, and conditions for such services, and (2) its analysis of any physical or other constraints affecting the provision of such services.

Section 211(a) of the FPA (16 U.S.C. 824j(a)) provides that any person generating wholesale electric energy may apply to the Commission for an order requiring a transmitting utility to provide wholesale transmission services to the applicant. The Commission's regulation at 18 CFR 2.20 provides that the Commission may issue an FPA section 211 order only if the applicant has made a request for transmission services to the transmitting utility at least 60 days prior to the filing of an application for such order. A Commission order requiring interconnection or transmission services must include a determination that the order meets the requirements of FPA section 212 (16 U.S.C. 824k) and would otherwise be in the public interest.

Program changes are necessary to increase the accuracy of this information collection request. As previously approved, FERC-716 included a single collection activity for good-faith requests, thus erroneously omitting the possibility of an application for a Commission order. Both collection activities are included in this request.

Type of Respondents: Wholesale Generators and Transmitting Utilities.

Estimate of Annual Burden: The Commission estimates the average annual burden ¹ and cost ² for this information collection as follows.

¹ Burden is defined as the total time, effort, or financial resources expended by persons to generate, maintain, retain, or disclose or provide information to or for a Federal agency. For further explanation of what is included in the information collections burden, reference 5 CFR 1320.3.

² The Commission staff estimates that the average respondent for FERC-716 is similarly situated to the Commission, in terms of salary plus benefits. Based on FERC's current annual average of $207,786 (for salary plus benefits), the average hourly cost is $100/hour.

| Number of respondents | Annual number of responses per respondent | Total number of responses | Average burden and cost per response | Total annual burden hours and total annual cost ($) | Cost per respondent ($)
| (1) | (2) | (1) * (2) = (3) | (4) | (3) * (4) = (5) | (5) ÷ (1)
Information exchange between parties | 6 | 1 | 6 | 100 hrs.; $10,000 | 600 hrs.; 60,000 | $10,000
Application submitted to FERC if parties' negotiations are unsuccessful | 6 | 1 | 6 | 2.5 hrs.; $250 | 15 hrs.; 1,500 | 250
Total |  |  | 12 |  | 615 hrs.; 61,500 | 10,250

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 6, 2024.
Debbie-Anne A. Reese,
Acting Secretary.

[FR Doc. 2024-12868 Filed 6-11-24; 8:45 am]

BILLING CODE 6717-01-P